DEPARTMENT OF THE AGRICULTURE

Forest Service

DEPARTMENT OF THE INTERIOR

Bureau of Land Management

[OR-930-6333]

Correction to Notice of Availability (NOA) for the Final Supplemental Environmental Impact Statement (FSEIS) for the Clarification of Language in the 1994 Record of Decision for the Northwest Forest Plan; National Forests and Bureau of Land Management Districts Within the Range of the Northern Spotted Owl (Proposal To Amend Wording About the Aquatic Conservation Strategy); Western Oregon and Washington, and Northwestern California

AGENCY: Forest Service, USDA; Bureau of Land Management, USDI.

ACTION: Correction notice.

SUMMARY: This notice amends the NOA for the FSEIS for the Clarification of Language in the 1994 Record of Decision for the Northwest Forest Plan; National Forests and Bureau of Land Management Districts Within the Range of the Northern Spotted Owl (Proposal to Amend Wording about the Aquatic Conservation Strategy); Western Oregon and Washington, and Northwestern California printed in the Federal Register: Vol. 68, No. 211 on Friday, October 31, 2003. The correct Web site for obtaining an electronic copy of the FSEIS is http://www.reo.gov/acs/.

FOR FURTHER INFORMATION CONTACT: Joyce Casey; phone (503) 326-2430; e-mail: jcasey01@fs.fed.us or Leslie Frewing-Runyon; phone (503) 808-6088; E-mail: lfrewing@or.blm.gov.

Dated: November 14, 2003.
Judy Ellen Nelson,
Deputy State Director, Resource Planning, Use & Protection.
Dated: November 14, 2003.
Lisa E. Freedman,
Director, Resource Planning and Monitoring, Pacific Northwest Region.

[FR Doc. 03-29400 Filed 11-24-03; 8:45 am]

BILLING CODE 4310-33-P